DEPARTMENT OF ENERGY

Federal Energy Regulatory Commission

Combined Notice of Filings #1

Take notice that the Commission received the following electric corporate filings:

Docket Numbers: EC20-51-000.

Applicants: Tri-State Generation and Transmission Association, Inc., Guzman Energy, LLC.

Description: Joint Application for Authorization Under Section 203 of the Federal Power Act, et al. of Tri-State Generation and Transmission Association, Inc., et al.

Filed Date: 4/17/20.

Accession Number: 20200417-5040.

Comments Due: 5 p.m. ET 5/8/20.

Take notice that the Commission received the following exempt wholesale generator filings:

Docket Numbers: EG20-116-000.

Applicants: Elm Branch Solar 1, LLC.

Description: NOTICE OF SELF-CERTIFICATION OF EXEMPT WHOLESALE GENERATOR STATUS.

Filed Date: 4/16/20.

Accession Number: 20200416-5151.

Comments Due: 5 p.m. ET 5/7/20.

Take notice that the Commission received the following electric rate filings:

Docket Numbers: ER12-1316-005; ER11-2753-006.

Applicants: Silver State Solar Power North, LLC, Cedar Point Wind, LLC.

Description: Notification of Change in Status of the Enbridge MBR Companies.

Filed Date: 4/16/20.

Accession Number: 20200416-5165.

Comments Due: 5 p.m. ET 5/7/20

Docket Numbers: ER17-1794-004.

Applicants: Innovative Solar 42, LLC.

Description: Notice of Non-Material Change in Status of Innovative Solar 42, LLC.

Filed Date: 4/17/20.

Accession Number: 20200417-5156.

Comments Due: 5 p.m. ET 5/8/20.

Docket Numbers: ER20-1061-001.

Applicants: Turquoise Nevada LLC.

Description: Tariff Amendment: Deferral of Filing of First Amendment to Amended and Restated SFA to be effective 2/22/2020.

Filed Date: 4/16/20.

Accession Number: 20200416-5129.

Comments Due: 5 p.m. ET 5/7/20.

Docket Numbers: ER20-1582-000.

Applicants: ISO New England Inc.

Description: § 205(d) Rate Filing: ISO-NE; Defer Eff Date of Previously-Accepted Resource Dispatchability Revisions to be effective 1/1/2021.

Filed Date: 4/16/20.

Accession Number: 20200416-5115.

Comments Due: 5 p.m. ET 5/7/20.

Docket Numbers: ER20-1583-000.

Applicants: NorthWestern Corporation.

Description: § 205(d) Rate Filing: RS 326—LGIA between Colstrip Transmission Owners and Broadview Solar II, LLC to be effective 4/9/2020.

Filed Date: 4/17/20.

Accession Number: 20200417-5000.

Comments Due: 5 p.m. ET 5/8/20.

Docket Numbers: ER20-1584-000.

Applicants: Niagara Mohawk Power Corporation, New York Independent System Operator, Inc.

Description: § 205(d) Rate Filing: Niagara Mohawk E&P Agreement (SA 2531) between NMPC and NY Transco to be effective 3/18/2020.

Filed Date: 4/17/20.

Accession Number: 20200417-5006.

Comments Due: 5 p.m. ET 5/8/20.

Docket Numbers: ER20-1585-000.

Applicants: Midcontinent Independent System Operator, Inc.

Description: § 205(d) Rate Filing: 2020-04-17_SA 3475 ATXI-City of Roses Wind Energy GIA (J848) to be effective 4/3/2020.

Filed Date: 4/17/20.

Accession Number: 20200417-5041.

Comments Due: 5 p.m. ET 5/8/20.

Docket Numbers: ER20-1586-000.

Applicants: PJM Interconnection, L.L.C.

Description: § 205(d) Rate Filing: Original ISA, SA No. 5615 and First Revised ICSA, SA No. 5500; Queue No. AC1-216 to be effective 3/18/2020.

Filed Date: 4/17/20.

Accession Number: 20200417-5051.

Comments Due: 5 p.m. ET 5/8/20.

Docket Numbers: ER20-1587-000.

Applicants: Alabama Power Company.

Description: § 205(d) Rate Filing: Columbiana PV II LGIA Filing to be effective 4/8/2020.

Filed Date: 4/17/20.

Accession Number: 20200417-5053.

Comments Due: 5 p.m. ET 5/8/20.

Docket Numbers: ER20-1588-000.

Applicants: Portland General Electric Company.

Description: § 205(d) Rate Filing: Broadview Solar II LLC LGIA to be effective 4/9/2020.

Filed Date: 4/17/20.

Accession Number: 20200417-5066.

Comments Due: 5 p.m. ET 5/8/20.

Docket Numbers: ER20-1589-000.

Applicants: Midcontinent Independent System Operator, Inc.

Description: § 205(d) Rate Filing: 2020-04-17_SA 3476 ATC-Grant County Solar GIA (J947) to be effective 4/3/2020.

Filed Date: 4/17/20.

Accession Number: 20200417-5074.

Comments Due: 5 p.m. ET 5/8/20.

Docket Numbers: ER20-1590-000.

Applicants: PJM Interconnection, L.L.C.

Description: § 205(d) Rate Filing: Revisions to the PJM Tariff, OA and RAA re Load Management Testing Requirements to be effective 6/16/2020.

Filed Date: 4/17/20.

Accession Number: 20200417-5151.

Comments Due: 5 p.m. ET 5/8/20.

Docket Numbers: ER20-1591-000.

Applicants: Tri-State Generation and Transmission Association, Inc.

Description: § 205(d) Rate Filing: Filing of Rate Schedule FERC No. 279 between Tri-State and Niobrara to be effective 4/18/2020.

Filed Date: 4/17/20.

Accession Number: 20200417-5160.

Comments Due: 5 p.m. ET 5/8/20.

Docket Numbers: ER20-1592-000.

Applicants: California Independent System Operator Corp.

Description: § 205(d) Rate Filing: 2020-04-17 Clarify RA Obligations from CCE3 Initiative and related matters to be effective 7/1/2020.

Filed Date: 4/17/20.

Accession Number: 20200417-5172.

Comments Due: 5 p.m. ET 5/8/20.

Docket Numbers: ER20-1593-000.

Applicants: Highlander Solar Energy Station 1, LLC.

Description: Baseline eTariff Filing: Highlander Solar Energy Station 1 MBR to be effective 4/18/2020.

Filed Date: 4/17/20.

Accession Number: 20200417-5175.

Comments Due: 5 p.m. ET 5/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2020.
Nathaniel J. Davis, Sr.,
Deputy Secretary.

[FR Doc. 2020-08639 Filed 4-22-20; 8:45 am]

BILLING CODE 6717-01-P